DEPARTMENT OF JUSTICE

Notice of Lodging of Consent Decree Pursuant to the Clean Water Act (“CWA”)

In accordance with Departmental policy at 28 CFR 50.7, notice is hereby given that on June 7, 2001, a proposed consent decree in United States v. Wal-Mart Stores, Inc., et al., Civil Action No. 01-5115, was lodged with the United States District Court for the Western District of Arkansas, Fayetteville Division. The proposed Consent Decree resolves the liability of War-Mart and ten of its general contractors, Western Builders, Inc., Rogers-O'Brien Construction Co., D/B Constructors, Inc., Jaynes Corporation, Gerald A. Martin, Ltd., W.S. Bowlware Construction, Inc., Vratsinas Construction Co., Construction Supervisors, Inc., Dalmac Construction, Inc., and Williams Development & Construction, Inc., under Sections 301 and 402 of the CWA at the following 17 construction sites located in Texas, New Mexico, Oklahoma and Massachusetts: Wal-Mart Supercenter #868, Center St. & U.S. 62-180 (Eddy County), Carlsbad, New Mexico; Wal-Mart Supercenter #284, 930 Walnut Creek Dr., Mansfield, Texas; Wal-Mart Supercenter 851; 1700 U.S. Hwy 70 West, Ruidoso, New Mexico; Wal-Mart Store #240, Hwy 50 at Loop 178, Commerce, Texas; Wal-Mart Supercenter #259, I-30 at Greencrest Blvd., Rockwall, Texas; Wal-Mart Store #2667, 7401 Sammuell Blvd., Dallas, Texas; Wal-Mart Store #277, Moore, Oklahoma; Wal-Mart Store #1216, E. Trinity Mills Road and Old Denton, Carrollton, Texas; Wal-Mart Supercenter #1347, 2500 Hwy 180 East, Silver City, New Mexico; Wal-Mart Supercenter #1397, 10224 Coors Bypass, Albuquerque, New Mexico; Wal-Mart Store #2427, 13739 N. Central Expressway at Midpark Dr., Dallas, Texas; Wal-Mart Store #789, 200 E. Hwy. 80, Mesquite, Texas; Wal-Mart Supercenter #2724, 1107 North Shaver, Pasadena, Texas; Wal-Mart Expansion Store #915, 11210 West Airport Boulevard, Stafford, Texas; Wal-Mart Store #1279 Expansion, 10411 North Interstate 45, Houston, Texas; Wal-Mart Store #2718, 9555 S. Post Oak Rd, Houston, TX 77096; and Wal-Mart Store #2683, 337 Russell Street, Hadley, Massachusetts. Under the terms of the Consent Decree, the Settling Defendants have agreed to pay a civil penalty of $1.0 million and Wal-Mart has agreed to implement an environmental management plan at future construction sites.

For a period of thirty (30) days from the date of this publication, the Department of Justice will receive written comments relating to the proposed consent decree from persons who are not parties to the action. Comments should be addressed to the Acting Assistant Attorney General, Environment and Natural Resources Division, U.S. Department of Justice, Washington, D.C. 20530, and should refer to United States v. Wal-Mart Stores, Inc., et al., DOJ #90-5-1-1-4510. The proposed consent decree may be examined at the offices of the United States Attorney for the Western District of Arkansas, Fayetteville Division, 6th and Rogers, Room 216, Fort Smith, Arkansas 72901, and at the office of the United States Environmental Protection Agency, Region VI, 1445 Ross Avenue, Dallas, Texas 75202 (Attention: Ellen Change, Assistant Regional Counsel). A copy of the consent decree may also be obtained by mail from the Consent Decree Library, P.O. Box 7611, Washington, D.C. 20044. Such requests should be accompanied by a check in the amount of $11.50 (25 cents per page reproduction charge for decree, with attachments) payable to “Consent Decree Library”. When requesting copies, please refer to United States v. Wal-Mart Stores, Inc., et al., DOJ #90-5-1-1-4510.

Thomas A. Mariana, Jr.,
Assistant Section Chief, Environmental Enforcement Section, Environment and Natural Resources Division.

[FR Doc. 01-15674 Filed 6-21-01; 8:45 am]

BILLING CODE 4410-15-M